DEPARTMENT OF AGRICULTURE

Animal and Plant Health Inspection Service

7 CFR Part 301

[Docket No. APHIS-2013-0078]

Asian Longhorned Beetle; Quarantined Areas in New Jersey

AGENCY: Animal and Plant Health Inspection Service, USDA.

ACTION: Affirmation of interim rule as final rule.

SUMMARY: We are adopting as a final rule, without change, an interim rule that amended the Asian longhorned beetle regulations by removing portions of Middlesex and Union Counties, NJ, from the list of quarantined areas based on our determination that those areas meet our criteria for removal. The interim rule was necessary to relieve restrictions that are no longer necessary because there are no longer any areas in New Jersey that are quarantined because of Asian longhorned beetle.

DATES: Effective on July 18, 2014, we are adopting as a final rule the interim rule published at 79 FR 17387-17388 on March 28, 2014.

FOR FURTHER INFORMATION CONTACT: Ms. Claudia Ferguson, Senior Regulatory Policy Specialist, Regulatory Coordination and Compliance, PPQ, APHIS, 4700 River Road Unit 133, Riverdale, MD 20737-1236; (301) 851-2352.

SUPPLEMENTARY INFORMATION:

Background

The Asian longhorned beetle (ALB, Anoplophora glabripennis), an insect native to China, Japan, Korea, and the Isle of Hainan, is a destructive pest of hardwood trees. The ALB regulations in 7 CFR 301.51-1 through 301.51-9 (referred to below as the regulations) restrict the interstate movement of regulated articles from quarantined areas to prevent the artificial spread of ALB to noninfested areas of the United States.

In an interim rule ¹ effective and published in the Federal Register on March 28, 2014 (79 FR 17387-17388, Docket No. APHIS-2013-0078), we amended the regulations by removing the entry for Middlesex and Union Counties, NJ. That action relieved restrictions on the movement of regulated articles from those areas that are no longer warranted. With that change, there are no longer any areas in New Jersey that are quarantined because of ALB.

¹ To view the interim rule, go to http://www.regulations.gov/#!docketDetail;D=APHIS-2013-0078.

Comments on the interim rule were required to be received on or before May 27, 2014. We did not receive any comments. Therefore, for the reasons given in the interim rule, we are adopting the interim rule as a final rule without change.

This action also affirms the information contained in the interim rule concerning Executive Order 12866 and the Regulatory Flexibility Act, Executive Orders 12372 and 12988, and the Paperwork Reduction Act.

Further, for this action, the Office of Management and Budget has waived its review under Executive Order 12866.

List of Subjects in 7 CFR Part 301

Agricultural commodities, Plant diseases and pests, Quarantine, Reporting and recordkeeping requirements, Transportation.

PART 301—DOMESTIC QUARANTINE NOTICES

Accordingly, we are adopting as a final rule, without change, the interim rule that amended 7 CFR part 301 and that was published at 79 FR 17387-17388 on March 28, 2014.

Done in Washington, DC, this 14th day of July 2014.
Kevin Shea,
Administrator, Animal and Plant Health Inspection Service.

[FR Doc. 2014-16924 Filed 7-17-14; 8:45 am]

BILLING CODE 3410-34-P